SUSQUEHANNA RIVER BASIN COMMISSION

Actions Taken at September 15, 2022 Meeting

AGENCY: Susquehanna River Basin Commission.

ACTION: Notice.

SUMMARY: As part of its regular business meeting held on September 15, 2022, Baltimore, Maryland, the Commission approved the applications of certain water resources projects, and took additional actions, as set forth in the Supplementary Information below.

DATES: September 15, 2022.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above these actions were also taken: (1) adoption of a revised Civil Penalty Matrix and a revised Policy and Guidance Statement for the Settlement of Civil Penalties/Enforcement Actions; (2) adoption of the Commission's Fiscal Year 2024 Budget; (3) adoption of member jurisdictions allocation for FY2024; (4) and approval of contracts, grants and agreements.

Project Applications Approved:

1. Project Sponsor: Aqua Pennsylvania, Inc. Project Facility: Monroe Manor System, Monroe Township, Snyder County, Pa. Application for groundwater withdrawal of up to 0.482 mgd (30-day average) from Well 8.

2. Project Sponsor: Brunner Island, LLC. Project Facility: Brunner Island Steam Electric Station (Susquehanna River), East Manchester Township, York County, Pa. Applications for renewal of surface water withdrawal of up to 835.000 mgd (peak day) and consumptive use of up to 23.100 mgd (peak day) (Docket No. 20070908).

3. Project Sponsor and Facility: Chesapeake Appalachia, L.L.C. (Chemung River), Athens Township, Bradford County, Pa. Application for renewal of surface water withdrawal of up to 0.999 mgd (peak day) (Docket No. 20170902).

4. Project Sponsor and Facility: Chesapeake Appalachia, L.L.C. (Sugar Creek), Burlington Township, Bradford County, Pa. Application for renewal of surface water withdrawal of up to 0.499 mgd (peak day) (Docket No. 20170903).

5. Project Sponsor and Facility: Chesapeake Appalachia, L.L.C. (Towanda Creek), Leroy Township, Bradford County, Pa. Application for renewal of surface water withdrawal of up to 1.500 mgd (peak day) (Docket No. 20170905).

6. Project Sponsor and Facility: Coterra Energy Inc. (Meshoppen Creek), Springville Township, Susquehanna County, Pa. Application for renewal of surface water withdrawal of up to 0.750 mgd (peak day) (Docket No. 20170901).

7. Project Sponsor and Facility: Edgewood by Sand Springs, LLC, Butler Township, Luzerne County, Pa. Modification to extend the approval term of the surface water withdrawal and consumptive use approval (Docket No. 19980102) by 2 years to allow the project to complete planning and permitting to redevelop the property and cease golf course operations.

8. Project Sponsor: Lancaster County Solid Waste Management Authority. Project Facility: Frey Farm and Creswell Landfills, Manor Township, Lancaster County, Pa. Modification to increase consumptive use (peak day) by an additional 0.030 mgd, for a total consumptive use of up to 0.095 mgd, addition of approved sources of water for consumptive use, and General Permit GP-01 Notice of Intent for groundwater remediation (Docket No. 20061208).

9. Project Sponsor: Maplemoor, Inc. Project Facility: Huntsville Golf Club, Lehman Township, Luzerne County, Pa. Application for renewal of consumptive use of up to 0.499 mgd (30-day average) (Docket No. 19920909).

10. Project Sponsor and Facility: Pennsylvania Grain Processing LLC (West Branch Susquehanna River), Clearfield Borough, Clearfield County, Pa. Applications for renewal of surface water withdrawal of up to 2.505 mgd (peak day) and for consumptive use of up to 2.000 mgd (peak day) (Docket No. 20070904).

11. Project Sponsor and Facility: Seneca Resources Company, LLC (Elk Run), Sullivan Township, Tioga County, Pa. Application for renewal of surface water withdrawal of up to 0.646 mgd (peak day) (Docket No. 20170909).

12. Project Sponsor and Facility: Shrewsbury Borough, Shrewsbury Township and Shrewsbury Borough, York County, Pa. Applications for renewal of groundwater withdrawals (30-day averages) of up to 0.099 mgd from the Meadow Well and 0.180 mgd from the Village Well (Docket Nos. 19890501 and 19900105).

13. Project Sponsor and Facility: South Middleton Township Municipal Authority, Monroe Township, Cumberland County, Pa. Application for renewal of groundwater withdrawal with increase from 0.624 mgd to up to 0.936 mgd (30-day average) from Well 3 (Docket No. 19880404).

14. Project Sponsor and Facility: Susquehanna Gas Field Services, LLC (Meshoppen Creek), Meshoppen Borough, Wyoming County, Pa. Application for renewal of surface water withdrawal of up to 0.145 mgd (peak day) (Docket No. 20170908).

15. Project Sponsor and Facility: SWN Production Company, LLC (Wyalusing Creek), Wyalusing Township, Bradford County, Pa. Application for renewal of surface water withdrawal of up to 2.000 mgd (peak day) (Docket No. 20170910).

16. Project Sponsor and Facility: Town of Conklin, Broome County, N.Y. Applications for renewal of groundwater withdrawals (30-day averages) of up to 0.350 mgd from Well 5 and up to 0.350 mgd from Well 6 (Docket Nos. 20070601 and 20031001, respectively).

17. Project Sponsor: Town of Oneonta. Project Facility: Southside Water System, Town of Oneonta, Otsego County, N.Y. Applications for groundwater withdrawals (30-day averages) of up to 0.720 mgd from Well PW-1 and up to 0.720 mgd from Well PW-2.

18. Project Sponsor and Facility: Village of Horseheads, Town of Horseheads, Chemung County, N.Y. Application for renewal of groundwater withdrawal of up to 1.440 mgd (30-day average) from Well 5 (Docket No. 19870302).

Projects Tabled:

19. Project Sponsor and Facility: Dover Township, York County, Pa. Applications for groundwater withdrawals (30-day averages) of up to 0.360 mgd from Well 8 and up to 0.088 mgd from Well 10 (Docket No. 19911104)

20. Project Sponsor: Pine Grove Borough. Project Facility: Pine Grove Borough Water System, Tremont Township, Schuylkill County, Pa. Applications for groundwater withdrawals (30-day averages) of up to 0.499 mgd from Well 16 and up to 0.097 mgd from Well 17.

Authority: Public Law 91-575, 84 Stat. 1509 et seq., 18 CFR parts 806, 807, and 808.

Dated: September 19, 2022.
Jason E. Oyler,
General Counsel and Secretary to the Commission.

[FR Doc. 2022-20547 Filed 9-21-22; 8:45 am]

BILLING CODE 7040-01-P